DEPARTMENT OF AGRICULTURE

Foreign Agricultural Service

WTO Agricultural Safeguard Trigger Levels

AGENCY: Foreign Agricultural Service, USDA.

ACTION: Notice of product coverage and trigger levels for safeguard measures provided for in the World Trade Organization (WTO) Agreement on Agriculture.

SUMMARY: This notice lists the updated quantity trigger levels for products, which may be subject to additional import duties under the safeguard provisions of the WTO Agreement on Agriculture. This notice also includes the relevant period applicable for the trigger levels on each of the listed products.

EFFECTIVE DATE: April 2, 2008.

FOR FURTHER INFORMATION CONTACT: Lana Bennett, Import and Trade Support Programs Division, Foreign Agricultural Service, U.S. Department of Agriculture, Stop 1021, 1400 Independence Avenue, SW., Washington, DC 20250-1021, telephone at (202) 720-0638, or e-mail itspd@fas.usda.gov.

SUPPLEMENTARY INFORMATION: Article 5 of the WTO Agreement on Agriculture provides that additional import duties may be imposed on imports of products subject to tariffication as a result of the Uruguay Round if certain conditions are met. The agreement permits additional duties to be charged if the price of an individual shipment of imported products falls below the average price for similar goods imported during the years 1986-88 by a specified percentage. It also permits additional duties to be imposed if the volume of imports of an article exceeds the average of the most recent 3 years for which data are available by 5, 10, or 25 percent, depending on the article. These additional duties may not be imposed on quantities for which minimum or current access commitments were made during the Uruguay Round negotiations, and only one type of safeguard, price or quantity, may be applied at any given time to an article. Section 405 of the Uruguay Round Agreements Act requires that the President cause to be published in the Federal Register information regarding the price and quantity safeguards, including the quantity trigger levels, which must be updated annually based upon import levels during the most recent 3 years. The President delegated this duty to the Secretary of Agriculture in Presidential Proclamation No. 6763, dated December 23, 1994, 60 FR 1005 (Jan. 4, 1995). The Secretary of Agriculture further delegated the duty to the Administrator of the Foreign Agricultural Service (7 CFR 2.43(a)(2)(2007)). The Annex to this notice contains the updated quantity trigger levels.

Additional information on the products subject to safeguards and the additional duties which may apply can be found in subchapter IV of Chapter 99 of the Harmonized Tariff Schedule of the United States and in the Secretary of Agriculture's Notice of Safeguard Action, published in the Federal Register at 60 FR 427, January 4, 1995.

Notice: As provided in section 405 of the Uruguay Round Agreements Act, consistent with Article 5 of the Agreement on Agriculture, the safeguard quantity trigger levels previously notified are superceded by the levels indicated in the Annex to this notice.

The definitions of these products were provided in the Notice of Safeguard Action published in the Federal Register, at 60 FR 427, January 4, 1995.

Issued at Washington, DC this 26th day of March, 2008.
Michael W. Yost,
Administrator, Foreign Agricultural Service.

Annex.—Quantity-Based Safeguard Trigger
Product | Trigger level | Period
Beef | 412,848 mt | January 1, 2008 to December 31, 2008.
Mutton | 2,455 mt | January 1, 2008 to December 31, 2008.
Cream | 1,683,273 liters | January 1, 2008 to December 31, 2008.
Evaporated or Condensed Milk | 6,393,713 kilograms | January 1, 2008 to December 31, 2008.
Nonfat Dry Milk | 501,702 kilograms | January 1, 2008 to December 31, 2008.
Dried Whole Milk | 3,300,683 kilograms | January 1, 2008 to December 31, 2008.
Dried Cream | 16,575 kilograms | January 1, 2008 to December 31, 2008.
Dried Whey/Buttermilk | 57,385 kilograms | January 1, 2008 to December 31, 2008.
Butter | 8,119,255 kilograms | January 1, 2008 to December 31, 2008.
Butter Oil and Butter Substitutes | 7,852,361 kilograms | January 1, 2008 to December 31, 2008.
Dairy Mixtures | 59,001,920 kilograms | January 1, 2008 to December 31, 2008.
Blue Cheese | 5,312,438 kilograms | January 1, 2008 to December 31, 2008.
Cheddar Cheese | 12,878,813 kilograms | January 1, 2008 to December 31, 2008.
American-Type Cheese | 8,616,224 kilograms | January 1, 2008 to December 31, 2008.
Edam/Gouda Cheese | 8,348,479 kilograms | January 1, 2008 to December 31, 2008.
Italian-Type Cheese | 22,934,090 kilograms | January 1, 2008 to December 31, 2008.
Swiss Cheese with Eye Formation | 32,795,660 kilograms | January 1, 2008 to December 31, 2008.
Gruyere Process Cheese | 7,028,728 kilograms | January 1, 2008 to December 31, 2008.
Lowfat Cheese | 1,519,025 kilograms | January 1, 2008 to December 31, 2008.
NSPF Cheese | 54,012,829 kilograms | January 1, 2008 to December 31, 2008.
Peanuts | 15,634 mt | April 1, 2007 to March 31, 2008.
| 12,096 mt | April 1, 2008 to March 31, 2009.
Peanut Butter/Paste | 3,833 mt | January 1, 2008 to December 31, 2008.
Raw Cane Sugar | 1,411,011 mt | October 1, 2007 to September 30, 2008.
| 1,462,968 mt | October 1, 2008 to September 30, 2009.
Refined Sugar and Syrups | 158,544 mt | October 1, 2007 to September 30, 2008.
| 175,217 mt | October 1, 2008 to September 30, 2009.
Blended Syrups | 29 mt | October 1, 2007 to September 30, 2008.
| 72 mt | October 1, 2008 to September 30, 2009.
Articles Over 65% Sugar | 593 mt | October 1, 2007 to September 30, 2008.
| 669 mt | October 1, 2008 to September 30, 2009.
Articles Over 10% Sugar | 17,655 mt | October 1, 2007 to September 30, 2008.
| 16,759 mt | October 1, 2008 to September 30, 2009.
Sweetened Cocoa Powder | 1,083 mt | October 1, 2007 to September 30, 2008.
| 1,329 mt | October 1, 2008 to September 30, 2009.
Chocolate Crumb | 9,137,158 kilograms | January 1, 2008 to December 31, 2008.
Lowfat Chocolate Crumb | 321,752 kilograms | January 1, 2008 to December 31, 2008.
Infant Formula Containing Oligosaccharides | 21,932 kilograms | January 1, 2008 to December 31, 2008.
Mixes and Doughs | 111 mt | October 1, 2007 to September 30, 2008.
| 243 mt | October 1, 2008 to September 30, 2009.
Mixed Condiments and Seasonings | 126 mt | October 1, 2007 to September 30, 2008.
| 128 mt | October 1, 2008 to September 30, 2009.
Ice Cream | 2,228,293 liters | January 1, 2008 to December 31, 2008.
Animal Feed Containing Milk | 29,683 kilograms | January 1, 2008 to December 31, 2008.
Short Staple Cotton | 128,095 kilograms | September 20, 2007 to September 19, 2008.
| 669,917 kilograms | September 20, 2008 to September 19, 2009.
Harsh or Rough Cotton | 0 kilograms | August 1, 2007 to July 31, 2008.
| 0 kilograms | August 1, 2008 to July 31, 2009.
Medium Staple Cotton | 2,113,814 kilograms | August 1, 2007 to July 31, 2008.
| 1,723,796 kilograms | August 1, 2008 to July 31, 2009.
Extra Long Staple Cotton | 7,045,601 kilograms | August 1, 2007 to July 31, 2008.
| 4,416,936 kilograms | August 1, 2008 to July 31, 2009.
Cotton Waste | 5,128 kilograms | September 20, 2007 to September 19, 2008.
| 70,768 kilograms | September 20, 2008 to September 19, 2009.
Cotton, Processed, Not Spun | 19,473 kilograms | September 11, 2007 to September 10, 2008.
| 10,205 kilograms | September 11, 2008 to September 10, 2009.

[FR Doc. E8-6640 Filed 4-1-08; 8:45 am]

BILLING CODE 3410-10-M